DEPARTMENT OF COMMERCE

National Oceanic and Atmospheric Administration

RIN 0648-XA302

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its King and Spanish Mackerel Advisory Panel (Mackerel AP) in North Charleston, SC.

DATES: The meeting will take place April 6-7, 2011. See SUPPLEMENTARY INFORMATION.

ADDRESSES: The meeting will be held at the Crowne Plaza Hotel, 4831 Tanger Outlet Blvd., North Charleston, SC 29418; telephone: (866) 358-6255.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; e-mail: kim.iverson@safmc.net.

SUPPLEMENTARY INFORMATION: Members of the Mackerel AP will meet from 1 p.m.-5 p.m. on April 6, 2011 and from 8:30 a.m. until 12 p.m. on April 7, 2011.

The Mackerel AP will receive an overview of Amendment 18 to the Coastal Migratory Pelagics Fishery Management Plan (FMP) for the South Atlantic and Gulf of Mexico addressing Annual Catch Limits (ACLs) and Accountability Measures (AMs) for species included in the FMP as required by the Magnuson-Stevens Fishery Conservation and Management Act and provide recommendations. The AP will also review Amendment 19 to the Coastal Migratory Pelagics FMP regarding alternatives for bag limit sales and provide recommendations.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: March 11, 2011.
Tracey L. Thompson,
Acting Director, Office of Sustainable Fisheries, National Marine Fisheries Service.

[FR Doc. 2011-6123 Filed 3-15-11; 8:45 am]

BILLING CODE 3510-22-P